DEPARTMENT OF TRANSPORTATION

Federal Aviation Administration

Seventy-Third Meeting: RTCA Special Committee 147: Minimum Operational Performance Standards for Traffic Alert and Collision Avoidance Systems Airborne Equipment

AGENCY: Federal Aviation Administration (FAA), DOT.

ACTION: Notice of RTCA Special Committee 147 meeting: Minimum Operational Performance Standards for Traffic Alert and Collision Avoidance Systems Airborne Equipment.

SUMMARY: The FAA is issuing this notice to advise the public of a meeting of RTCA Special Committee 147: Minimum Operational Performance Standards for Traffic Alert and Collision Avoidance Systems Airborne Equipment Agenda for the 73rd meeting.

DATES: The meeting will be held October 6, 2011, from 8:30 a.m. to 4 p.m.

ADDRESSES: The meeting will be held at RTCA, Inc., 1150 18th Street, NW., Suite 910, Washington, DC 20036.

FOR FURTHER INFORMATION CONTACT: RTCA Secretariat, 1850 18th Street, NW., Suite 910, Washington, DC, 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 147, Minimum Operational Performance Standards for Traffic Alert and Collision Avoidance Systems Airborne Equipment Agenda for the 73rd meeting:

Agenda

October 6, 2011

• Open Plenary Session

• SC-147 and WG-75 Co-Chairmen's Opening Remarks

• Introductions

• Approval of Agenda and Summary from 72nd meeting of SC-147

• EUROCAE WG-75: Status of Current Events

• Compatibility of Airborne and Ground-based Safety Nets

• Automated TCAS Response Standards

• TCAS Program Office Activities

• Monitoring Efforts/TRAMS/TOPA

• Future CAS development efforts

• AVS and other FAA activities

• TSOs, etc.

• ASIAS/CAST/CAS Steering Committee

• Working Group Status Reports

• Requirement Working Group

• Detailed brief on RWG report on Recommendations for collision-avoidance system(s) that would be compatible with TCAS II, be more compatible with operations in congested airspace, and integrate ADS-B data effectively.

• Surveillance Working Group

• Proposed changes to both Hybrid and TCAS Surveillance and their associated projected reductions in transponder occupancy by TCAS

• Consideration of final proposed changes to SC 147 Terms of Reference

• Other Business

• Action Items

• Date, Time, and Place of Next meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on September 8, 2011.
Robert L. Bostiga,
Manager, Agency Committee Management Office, Business Operations Group, AJP-92, NextGen & Operations Planning.

[FR Doc. 2011-23699 Filed 9-14-11; 8:45 am]

BILLING CODE 4910-13-P